DEPARTMENT OF HEALTH AND HUMAN SERVICES

Health Resources and Services Administration

Supplements to Sickle Cell Disease Newborn Screening Follow-up Program Recipients (HRSA-21-036)

AGENCY: Health Resources and Services Administration (HRSA), Department of Health and Human Services.

ACTION: Notice of supplemental awards.

SUMMARY: HRSA will provide supplemental award funds to all 25 Sickle Cell Disease (SCD) Newborn Screening (NBS) Follow-up Program (FP) grantees for $56,000 each for fiscal year 2023. The funds will support in-scope grant activities related to health care services, increasing access to medical and social support services, and conducting outreach to help connect individuals living with SCD to follow-up care.

FOR FURTHER INFORMATION CONTACT: Hakim Fobia, Public Health Analyst and Project Officer, Genetic Services Branch, Division of Services for Children with Special Health Needs, Maternal and Child Health Bureau (MCHB), HRSA, at scdprograms@hrsa.gov or (301) 945-9842.

SUPPLEMENTARY INFORMATION: Intended Recipients of the Award: 25 SCD NBS FP recipients as listed in Table 1.

Amount of Non-Competitive Awards: 25 awards at $56,000 (total: $1,400,000).

Project Period: September 1, 2023, to August 31, 2024.

CFDA Number: 93.110.

Award Instrument: Supplement.

Authority: 42 U.S.C. 701(a)(2) (§ 501(a)(2) of the Social Security Act).

Table 1—Recipients and Award Amounts
Grant No. | Award recipient name | City, state | Award amount
D1J42466 | Sickle Cell Disease Association of Illinois | Chicago, IL | $56,000
D1J42474 | Hemostasis and Thrombosis Center of Nevada | Las Vegas, NV | 56,000
D1J42475 | Ohio Sickle Cell & Health Association, Inc | Columbus, OH | 56,000
D1J42467 | Martin Center, Inc. | Indianapolis, IN | 56,000
D1JMC42468 | Baton Rouge Sickle Cell Anemia Foundation, Inc | Baton Rouge, LA | 56,000
D1JMC42463 | Cayenne Wellness Center and Children's Foundation, Inc. | Burbank, CA | 56,000
D1JMC42472 | Children's Sickle Cell Foundation Inc | Pittsburgh, PA | 56,000
D1JMC42473 | Clark, James R Memorial Sickle Cell Foundation | Columbia, SC | 56,000
D1JMC42471 | Piedmont Health Services and Sickle Cell Agency | Greensboro, NC | 56,000
D1JMC42476 | Sickle Cell Anemia Foundation of Oregon, Inc. | Portland, OR | 56,000
D1JMC42470 | Sickle Cell Association | Florissant, MO | 56,000
D1JMC42477 | The Sickle Cell Association Of New Jersey, Inc. | Newark, NJ | 56,000
D1JMC42469 | Sickle Cell Disease Association of America Michigan Chapter Inc | Detroit, MI | 56,000
D1JMC42478 | Sickle Cell Disease Association of America Philadelphia—Delaware Valley Chapter | Philadelphia, PA | 56,000
D1JMC42462 | Sickle Cell Foundation of Arizona, Inc. | Vail, AZ | 56,000
D1JMC42465 | Sickle Cell Foundation of Georgia, Inc. | Atlanta, GA | 56,000
D1JMC42479 | Sickle Cell Texas Marc Thomas Foundation | Austin, TX | 56,000
D1JMC42480 | Sickle Cell/Thalassemia Patients Networks, Inc. | Brooklyn, NY | 56,000
D1JMC42481 | Supporters of Families with Sickle Cell Disease, Incorporated | Tulsa, OK | 56,000
D1JMC42464 | University of Miami | Miami, FL | 56,000
D1JMC46837 | Sickle Cell Disease Foundation | Ontario, CA | 56,000
D1JMC46836 | Sickle Cell Disease Association of America Mobile Chapter | Mobile, AL | 56,000
D1JMC46834 | Crescent Foundation, Inc. | Philadelphia, PA | 56,000
D1JMC46835 | Metropolitan Seattle Sickle Cell Task Force | Seattle, WA | 56,000
D1JMC46838 | Sickle Cell Foundation of Tennessee | Memphis, TN | 56,000

Justification: The Consolidated Appropriations Act, 2023 (Pub. L. 117-328) provided MCHB with additional appropriations for the Sickle Cell Disease Newborn Screening Follow-up Program. The Program currently funds 25 community-based organizations to facilitate access to quality SCD care. MCHB will provide a supplement of $56,000 to each of the 25 existing grantees, as outlined in Table 1. Funds will support in-scope grant activities related to health care services, increasing access to medical and social support services, and conducting outreach to help connect individuals living with SCD to follow up care.

Carole Johnson,
Administrator.

[FR Doc. 2023-17805 Filed 8-17-23; 8:45 am]

BILLING CODE 4165-15-P